FEDERAL COMMUNICATIONS COMMISSION

47 CFR Part 73

[MB Docket Nos. 19-311, 13-249; FCC 20-154; FRS 22220]

All-Digital AM Broadcasting, Revitalization of the AM Radio Service

AGENCY: Federal Communications Commission.

ACTION: Final rule; announcement of effective date.

SUMMARY: In this document, the Commission announces that the Office of Management and Budget has approved a revision to the information collection requirements under OMB Control Number 3060-1034 associated with new or amended rules adopted in the Federal Communications Commission's All-Digital AM Broadcasting Report and Order, FCC 20-154, governing the contents of all-digital notifications submitted using the Digital Notification Form, FCC Form 335-AM, and that compliance with these rules is now required. This document is consistent with the All-Digital AM Broadcasting Report and Order, which states that the Commission will publish a document in the Federal Register announcing the effective date for these new or amended rule sections and revise the rules accordingly.

DATES: The addition of 47 CFR 73.406, published at 85 FR 78022 on December 3, 2020, is effective April 29, 2021.

FOR FURTHER INFORMATION CONTACT: Cathy Williams, Office of the Managing Director, Federal Communications Commission, at (202) 418-2918 or Cathy.Williams@fcc.gov.

SUPPLEMENTARY INFORMATION: This document announces that the Office of Management and Budget (OMB) approved the information collection requirements in 47 CFR 73.406 on April 14, 2021. This rule section was adopted in the All-Digital AM Broadcasting Report and Order, FCC 20-154 (85 FR 78022, December 3, 2020). The Commission publishes this document as an announcement of the effective date for these new or amended rules. If you have any comments on the burden estimates listed below, or how the Commission can improve the collections and reduce any burdens caused thereby, please contact Cathy Williams, Federal Communications Commission, Room 3.317, 45 L Street NE, Washington, DC 20554, regarding OMB Control Number 3060-1034. Please include the OMB Control Number in your correspondence. The Commission will also accept your comments via email at PRA@fcc.gov. To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the Commission is notifying the public that it received final OMB approval on April 14, 2021, for the information collection requirements contained in 47 CFR 73.406. Under 5 CFR part 1320, an agency may not conduct or sponsor a collection of information unless it displays a current, valid OMB Control Number.

No person shall be subject to any penalty for failing to comply with a collection of information subject to the Paperwork Reduction Act that does not display a current, valid OMB Control Number. The OMB Control Number for the information collection requirements in 47 CFR 73.406 is 3060-1034.

The foregoing notice is required by the Paperwork Reduction Act of 1995, Public Law 104-13, October 1, 1995, and 44 U.S.C. 3507.

The total annual reporting burdens and costs for the respondents are as follows:

OMB Control Number: 3060-1034.

OMB Approval Date: April 14, 2021.

OMB Expiration Date: April 30, 2024.

Title: Digital Audio Broadcasting Systems and their Impact on the Terrestrial Radio Broadcast Service; Digital Notification, FCC Form 335.

Form Number: FCC Form 335-AM.

Respondents: Business or other for-profit entities.

Number of Respondents and Responses: 270 respondents; 270 responses.

Estimated Time per Response: 1 hour-8 hours.

Frequency of Response: On occasion reporting requirement.

Obligation to Respond: Required to obtain or retain benefits. Statutory authority for this information collection is contained in Sections 154(i), 303, 310, and 553 of the Communications Act of 1934, as amended.

Total Annual Burden: 490 hours.

Total Annual Cost: $197,000.

Privacy Act Impact Assessment: No impact(s).

Nature and Extent of Confidentiality: There is no need for confidentiality with this collection of information.

Needs and Uses: On October 27, 2020, the Commission released the All-Digital AM Broadcasting Report and Order, FCC 20-154, MB Dockets 19-311, 13-249, where it adopted rules to allow AM radio stations, on a voluntary basis, to broadcast an all-digital signal using the HD radio in-band on-channel (IBOC) mode name MA3. This action benefits AM stations and their listeners by improving reception quality and listenable signal coverage in stations' service areas and by advancing the Commission's goal of improving the AM service, thereby helping to ensure the future of the service. AM broadcast station licensees are required to notify the Commission of a change to all- digital operations using Digital Notification Form, FCC Form 335-AM. Specifically pertaining to this Information Collection, in the All-Digital AM Broadcasting Report and Order, the Commission requires AM broadcast stations to electronically file a digital notification using the existing FCC Form 335-AM Digital Notification (or any successor notification form) to notify the Commission of the following changes: (1) The commencement of new all-digital operation; (2) an increase in nominal power of an all-digital AM station; or (3) a transition from core-only to enhanced operating mode. Although we direct broadcasters to use the current Form 335-AM for all-digital notifications, additional information is required for notification of AM all-digital operations specifically. Therefore, until the Form 335-AM is updated to display the new all-digital operation requirements, we direct filers to select “N/A” as appropriate within the form and submit an attachment containing the following information. These new all-digital AM notification requirements have been added to new § 73.406 of the Commission's rules.

(a) The type of notification (all-digital notification, increase in nominal power, reduction in nominal power, transition from core-only to enhanced, transition from enhanced to core-only, reversion from all-digital to hybrid or analog operation);

(b) the date that new or modified all-digital operation will commence or has ceased;

(c) a certification that the all-digital operations will conform to the relevant nominal power and spectral emissions limits;

(d) the nominal power of the all-digital station;

(e) a certification that the all-digital station complies with all EAS requirements; and

(f) if a notification of commencement of new all-digital service or a nominal power change, whether the station is operating in core-only or enhanced mode.

The All-Digital AM Broadcasting Report and Order also revises and reorganizes the digital notification requirements formally contained in § 73.404(e) of the rules by removing § 73.404(e) and adding new § 73.406 notification.

Federal Communications Commission.
Marlene Dortch,
Secretary.

[FR Doc. 2021-08424 Filed 4-28-21; 8:45 am]

BILLING CODE 6712-01-P